FEDERAL COMMUNICATIONS COMMISSION

Notice of Public Information Collection(s) Being Submitted to OMB for Review and Approval

January 23, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 5, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0405.

Title: Application for Authority to Construct or Make Changes in an FM Translator or FM Booster Station.

Form Number: FCC 349.

Type of Review: Extension of a currently approved collection.

Respondents: Businesses or other for-profit entities; and Not-for-profit institutions.

Number of Respondents: 1,050.

Estimated Time per Response: 1 to 3 hours.

Frequency of Response: Recordkeeping; On occasion reporting requirements; Third party disclosure.

Total Annual Burden: 2,750 hours.

Total Annual Costs: $2,689,500.

Needs and Uses: FCC Form 349 is used to apply for authority to construct a new FM translator or FM booster broadcast station, or to make changes in the existing facilities of such stations. To satisfy the “third party requirement” under 47 CFR 73.3580, applicants must give notice of their application for new or major changes in facilities in a local newspaper within 30 days, and a copy of both the notice and the application must be placed in the public inspection file. In addition, all mutually exclusive NCE proposals for the reserved band currently on file with the FCC will be required to supplement their applications with portions of the revised FCC Form 349 that are necessary to make a selection under the new point system. The FCC will issue a public notice announcing the procedures to be used in this process. The data help the FCC to determine whether an applicant meets basic statutory requirements and will not cause interference to other licensed broadcast services. When there are mutually exclusive, qualified applicants, the information will also help to determine which proposal will best serve the public interest.

OMB Control Number: 3060-0798.

Title: FCC Application for Wireless Telecommunications Bureau Radio Service Authorization.

Form Number: FCC 601.

Type of Review: Revision of a currently approved collection.

Respondents: Businesses or other for-profit entities; Individuals or households; Not-for-profit institutions; and State, local, or tribal governments.

Number of Respondents: 240,320.

Estimated Time per Response: 0.5 to 1.25 hours.

Frequency of Response: On occasion reporting requirement; Third party disclosure.

Total Annual Burden: 210,280 hours.

Total Annual Costs: $48,364,400.

Needs and Uses: FCC Form 601 is used as the general application (long form) for market-based licensing and site-by-site licensing in the Wireless Telecommunications Radio Services. This revision makes the necessary form changes for the Tribal Lands bidding credits, adjusts or clarifies various instructions including those for implementation of Coast and Ground Radio Services to ULS, and adds a general certification statement for RF certification as adopted in the Report and Order, FCC 96-326. The FCC will use this information to determine whether an applicant is legally, technically, and financially qualified to be licensed.

Federal Communications Commission.
Magalie Roman Salas,
Secretary.

[FR Doc. 01-2755 Filed 1-31-01; 8:45 am]

BILLING CODE 6712-01-P